DEPARTMENT OF COMMERCE

National Oceanic and Atmospheric Administration

RIN 0648-XE105

Pacific Island Fisheries; Public Meeting

AGENCY: National Marine Fisheries Service (NMFS), National Oceanic and Atmospheric Administration (NOAA), Commerce.

ACTION: Notice; public meetings.

SUMMARY: NMFS announces that the Center for Independent Experts (CIE) will meet to review the work quantifying bycatch in the Hawaii deep-set longline fishery, required by the Magnuson-Stevens Fishery Conservation and Management Act (Magnuson-Stevens Act), Endangered Species Act, Marine Mammal Protection Act, and Migratory Bird Treaty Act, and their implementing regulations.

DATES: See SUPPLEMENTARY INFORMATION section for meeting dates and times.

ADDRESSES: The meeting location is in Room 204, Hemenway Hall, University of Hawaii, 2445 Campus Road, Honolulu, HI 96822.

FOR FURTHER INFORMATION CONTACT: Christofer H. Boggs, (808) 725-5364, or Christofer.Boggs@noaa.gov.

SUPPLEMENTARY INFORMATION: The meeting schedule and agenda are as follows:

1. Monday, August 24, 2015 (8:30 a.m.-4 p.m.)

• Introduction

• Background information—Objectives and Terms of Reference

• Observer Program and Longline Fishery

• Review of Sampling Design

• Review of Approximation of Inclusion Probabilities

• Panel Questions and Answers

• Panel Discussions and Writing (Closed)

2. Tuesday, August 25, 2015 (8:30 a.m.-4 p.m.)

• Review of Point Estimators of Bycatch

• Review of Interval Estimators

• Panel Questions and Answers

• Panel Discussions and Writing (Closed)

3. Wednesday, August 26, 2015 (8:30 a.m.-4 p.m.)

• Review of Estimators of Dead and Seriously Injured (marine mammals)

• Review of Estimators of Subpopulation Totals

• Panel Questions and Answers

• Public Comment

• Panel Discussions and Writing (Closed)

4. Thursday, August 27, 2015 (8:30 a.m.-4 p.m.)

• Panel Discussions (Closed meeting, invitation only)

5. Friday, August 28, 2015 (8:30 a.m.-Noon)

• Panel Discussions and Present Results

• Adjourn

Although non-emergency issues not contained in this agenda may come up at the meeting for discussion, those issues may not be the subject of formal action during the meeting. Action will be restricted to those issues specifically listed in this notice and any issues arising after publication of this notice that require emergency action under section 305(c) of the Magnuson-Stevens Act, provided the public has been notified of the intent to take final action to address the emergency.

Special Accommodations

These meetings are physically accessible to people with disabilities. Direct requests for sign language interpretation or other auxiliary aids to Christofer Boggs, (808) 725-5364 or Christofer.Boggs@noaa.gov, at least 5 days prior to the meeting date.

Authority: 16 U.S.C. 1801 et seq.

Dated: August 10, 2015.
Alan D. Risenhoover,
Director, Office of Sustainable Fisheries, National Marine Fisheries Service.

[FR Doc. 2015-19962 Filed 8-13-15; 8:45 am]

BILLING CODE 3510-22-P